DEPARTMENT OF THE INTERIOR

Bureau of Land Management

[18X.LLAZ921000.L14400000.BJ0000.LXSSA2250000.241A]

Notice of Filing of Plats of Survey; Arizona

AGENCY: Bureau of Land Management, Interior.

ACTION: Notice of official filing.

SUMMARY: The plats of survey of the following described lands were officially filed in the Bureau of Land Management (BLM), Arizona State Office, Phoenix, Arizona, on the dates indicated. Surveys announced in this notice are necessary for the management of lands administered by the agencies indicated.

ADDRESSES: These plats will be available for inspection in the Arizona State Office, Bureau of Land Management, One North Central Avenue, Suite 800, Phoenix, Arizona 85004-4427. Protests of the survey should be sent to the Arizona State Director at the above address.

FOR FURTHER INFORMATION CONTACT: Gerald Davis, Chief Cadastral Surveyor of Arizona; (602) 417-9558; gtdavis@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION:

The Gila and Salt River Meridian, Arizona

The supplemental plat, in one sheet, showing the amended lotting in section 30, Township 10 North, Range 10 East, accepted June 7, 2018, and officially filed June 8, 2018, for Group 9111, Arizona.

This plat was prepared at the request of the Bureau of Land Management.

The plat, in one sheet, representing the dependent resurvey of a portion of the north boundary of section 26, a portion of the lines of Homestead Entry Survey No. 577, and a metes-and-bounds survey, partially surveyed Township 11 North, Range 10 East, accepted January 17, 2018, and officially filed January 18, 2018, for Group 1177, Arizona.

This plat was prepared at the request of the United States Forest Service.

The plat, in one sheet, representing the Amended Protraction Diagram (APD), partially surveyed Township 11 North, Range 10 East, accepted January 17, 2018, and officially filed January 18, 2018, for Group 1177, Arizona.

This plat was prepared at the request of the United States Forest Service.

This plat supersedes the APD approved November 26, 2013.

The plat, in one sheet, representing the dependent resurvey of a portion of the west boundary of the Navajo Indian Reservation, from the southwest corner of the present reservation to the six mile corner, Township 21 North, Range 11 East, accepted April 26, 2018, and officially filed April 27, 2018, for Group 1169, Arizona.

This plat was prepared at the request of the Bureau of Indian Affairs.

The plat, in one sheet, representing the dependent resurvey of a portion of the west boundary of the Navajo Indian Reservation, from the six mile corner to the twelve mile corner, Township 22 North, Range 11 East, accepted April 26, 2018, and officially filed April 27, 2018, for Group 1169, Arizona.

This plat was prepared at the request of the Bureau of Indian Affairs.

The plat, in one sheet, representing the dependent resurvey of a portion of the west boundary of the Navajo Indian Reservation, from the twelve mile corner to the eighteen mile corner, a portion of the south boundary, and the establishment of the northeast township corner, partially surveyed Township 23 North, Range 11 East, accepted April 26, 2018, and officially filed April 27, 2018, for Group 1169, Arizona.

This plat was prepared at the request of the Bureau of Indian Affairs.

The plat, in one sheet, representing the Amended Protraction Diagram (APD), partially surveyed Township 23 North, Range 11 East, accepted April 26, 2018, and officially filed April 27, 2018, for Group 1169, Arizona.

This plat was prepared at the request of the Bureau of Indian Affairs.

This plat supersedes that portion of Arizona Protraction Diagram No. 47 for this area.

The plat, in one sheet, representing the dependent resurvey of a portion of the west boundary of the Navajo Indian Reservation, from the eighteen mile corner to the intersection with the Little Colorado River, the meanders of the right bank of the Little Colorado River, and the establishment of the northeast township corner, partially surveyed Township 24 North, Range 11 East, accepted April 26, 2018, and officially filed April 27, 2018, for Group 1169, Arizona.

This plat was prepared at the request of the Bureau of Indian Affairs.

The plat, in one sheet, representing the Amended Protraction Diagram (APD), partially surveyed, Township 24 North, Range 11 East, accepted April 26, 2018, and officially filed April 27, 2018, for Group 1169, Arizona.

This plat was prepared at the request of the Bureau of Indian Affairs.

This plat supersedes that portion of Arizona Protraction Diagram No. 47 for this area.

The plat, in five sheets, representing the dependent resurvey of a portion of the Sixth Standard Parallel North (south boundary), a portion of the west boundary, the meanders of a portion of the right bank of the Little Colorado River, and the establishment of the northeast township corner and the standard corner of Township 25 North, Ranges 11 and 12 East, partially surveyed, Township 25 North, Range 11 East, accepted April 26, 2018, and officially filed April 27, 2018, for Group 1169, Arizona.

This plat was prepared at the request of the Bureau of Indian Affairs.

The plat, in one sheet, representing the Amended Protraction Diagram (APD), partially surveyed, Township 25 North, Range 11 East, accepted April 26, 2018, and officially filed April 27, 2018, for Group 1169, Arizona.

This plat was prepared at the request of the Bureau of Indian Affairs.

This plat supersedes that portion of Protraction Diagram No. 47 for that area.

The plat, in one sheet, representing the Amended Protraction Diagram (APD), unsurveyed Township 3 North, Range 16 East, accepted April 26, 2018, and officially filed April 27, 2018.

This plat was prepared at the request of the Bureau of Land Management.

This plat supersedes the APD accepted November 26, 2013.

The plat, in one sheet, representing the survey of the south and east boundaries, the subdivisional lines, and the subdivision of certain sections, Township 40 North, Range 25 East, accepted April 26, 2018, and officially filed April 27, 2018, for Group 1173, Arizona.

This plat was prepared at the request of the Bureau of Indian Affairs.

The plat, in one sheet, representing the dependent resurvey of the north boundary, Township 26 North, Range 29 East, the survey of the north boundary, the governing section line, a portion of the subdivisional lines, and the subdivision of certain sections, partially surveyed Township 27 North, Range 29 East, accepted June 11, 2018, and officially filed June 13, 2018, for Group 1178, Arizona.

This plat was prepared at the request of the Bureau of Indian Affairs.

The supplemental plat, in one sheet, showing the amended lotting in section 34, Township 13 North, Range 2 West, accepted June 7, 2018, and officially filed June 8, 2018, for Group 9112, Arizona.

This plat was prepared at the request of the United States Forest Service.

The plat, in two sheets, representing the dependent resurvey of a portion of the east boundary, a portion of the subdivisional lines, a portion of patented mineral surveys in sections 1, 2, 11 and 12, and the metes-and-bounds survey of Tract 37, Township 2 South, Range 12 East, accepted June 28, 2018, and officially filed July 2, 2018, for Group 1168, Arizona.

This plat was prepared at the request of the Bureau of Land Management.

The plat, in three sheets, representing the dependent resurvey of portions of the south and west boundaries, a portion of the subdivisional lines, portions of certain patented mineral surveys in sections 29, 31 and 32, the survey of a portion of the center line of the right-of-way of U.S. Highway No. 60, and a metes-and-bounds survey in section 31, Township 1 South, Range 13 East, accepted June 28, 2018, and officially filed July 2, 2018, for Group 1168, Arizona.

This plat was prepared at the request of the Bureau of Land Management.

The plat, in one sheet, representing the dependent resurvey of a portion of the subdivisional lines, Township 2 South, Range 13 East, accepted June 28, 2018, and officially filed July 2, 2018, for Group 1168, Arizona.

This plat was prepared at the request of the Bureau of Land Management.

A person or party who wishes to protest against any of these surveys must file a written notice of protest within 30 calendar days from the date of this publication with the Arizona State Director, Bureau of Land Management, stating that they wish to protest.

A statement of reasons for a protest may be filed with the notice of protest to the State Director, or the statement of reasons must be filed with the State Director within 30 days after the protest is filed. Before including your address, or other personal information in your protest, please be aware that your entire protest, including your personal identifying information, may be made publicly available at any time. While you can ask us in your comment to withhold your personal identifying information from public review, we cannot guarantee that we will be able to do so.

Authority: 43 U.S.C. Chap. 3.

Gerald T. Davis,
Chief Cadastral Surveyor of Arizona.

[FR Doc. 2018-15098 Filed 7-13-18; 8:45 am]

BILLING CODE 4310-32-P